DEPARTMENT OF COMMERCE

National Oceanic and Atmospheric Administration

RIN 0648-XA379

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Law Enforcement Advisory Panel via conference call. See SUPPLEMENTARY INFORMATION.

DATES: Members of the Law Enforcement Advisory Panel will meet via conference call from 2 p.m.-4 p.m. on May 10, 2011.

ADDRESSES: A listening station will be established at the Council office, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; e-mail: kim.iverson@safmc.net.

SUPPLEMENTARY INFORMATION: The LEAP will discuss nominations for selection of a Law Enforcement Officer of the Year Award and develop recommendations to the Council.

Special Accommodations

The meeting is physically accessible to people with disabilities. Requests for auxiliary aids should be directed to the council office (see ADDRESSES) 3 days prior to the conference call.

Note: The specific end time for the conference call is subject to change.

Dated: April 14, 2011.
William D. Chappell,
Acting Director, Office of Sustainable Fisheries, National Marine Fisheries Service.

[FR Doc. 2011-9529 Filed 4-19-11; 8:45 am]

BILLING CODE 3510-22-P